DEPARTMENT OF INTERIOR

Fish and Wildlife Service

50 CFR Part 17

Endangered and Threatened Wildlife and Plants

CFR Correction

This rule is being published by the Office of the Federal Register to correct an editorial or technical error that appeared in the most recent annual revision of the Code of Federal Regulations.

In Title 50 of the Code of Federal Regulations, Part 17 (§§ 17.1 to 17.95(a)), revised as of October 1, 2023, in § 17.11, amend paragraph (h) by revising the entry for “Hawaiian hoary bat” and adding an entry for “Rice's Whale”.

§ 17.11 Endangered and threatened wildlife.

* * * * *

(h) * * *

Common name | Scientific name | Where listed | Status | Listing citations and applicable rules
MAMMALS
* * * * * * *
Bat, Hawaiian hoary (opeapea) | Aeorestes semotus | Wherever found | E | 35 FR 16047, 10/13/1970.
* * * * * * *
Whale, Rice's | Balaenoptera ricei | Wherever found | E | 84 FR 15446, 4/15/2019; 86 FR 47022, 8/23/2021; N 87 FR 8981, 2/17/2022.
* * * * * * *

[FR Doc. 2024-21155 Filed 9-16-24; 8:45 am]

BILLING CODE 0099-10-P